FEDERAL COMMUNICATIONS COMMISSION

[IB Docket No. 04-398; FCC 04-247]

The Effect of Foreign Mobile Termination Rates on U.S. Customers

AGENCY: Federal Communications Commission.

ACTION: Proposed rule.

SUMMARY: This document is a summary of the Notice of Inquiry that was adopted by the Commission on October 14, 2004. The Notice of Inquiry seeks to develop a record on foreign mobile termination rates and inquires whether U.S. customers have adequate information and alternatives with regard to foreign mobile termination rates and surcharges, and whether such charges raise consumer concerns.

DATES: Comments are due January 14, 2005, and reply comments are due by February 14, 2005.

FOR FURTHER INFORMATION CONTACT: Peggy Reitzel or Francis Gutierrez, Policy Division, International Bureau, (202) 418-1460.

SUPPLEMENTARY INFORMATION: This is a summary of the Commission's Notice of Inquiry in IB Docket No. 04-398, FCC 04-247, which was adopted on October 14, 2004. The full text of this Commission decision is available for inspection and copying during normal business hours in the FCC Reference Center (Room CY-A257), 445 12th Street, SW., Washington, DC 20554. The document may also be downloaded from the Commission's Web site at http://hraunfoss.fcc.gov/edocs_public/attachmatch/FCC-04-247A1.pdf. The complete text may also be purchased from the Commission's copy contractor, Best Copy and Printing, Inc., in person at 445 12th Street, SW., Room CY-B402, Washington, DC 20554, via telephone at (202) 488-5300, via facsimile at (202) 488-5563, or via e-mail at FCC@BCPIWEB.COM.

Summary of the Notice of Inquiry

On October 14, 2004, the Commission adopted a Notice of Inquiry on the Effect of Foreign Mobile Termination Rates on U.S. Customers. By this Notice of Inquiry, the Commission seeks to develop a record on foreign mobile termination rates that will enable the Commission to assess properly the effects of foreign mobile termination rates on U.S. customers and competition in the U.S.-international services market.

In the Notice of Inquiry, the Commission seeks comment on foreign mobile termination rate payment flows and the relevant regulatory regimes. The Commission seeks input, analyses, and comments on the concerns raised by parties in the ISP Reform Order, FCC 04-53, 69 FR 23151, April 28, 2004, and on actions taken by foreign national regulatory authorities to address mobile termination rates within their respective jurisdictions. In addition, the Commission asks for factual information and data on foreign mobile termination rates. Finally, the Commission seeks comment on the appropriate framework by which the Commission can analyze whether foreign mobile termination rates are unreasonably high.

The Commission encourages all interested parties to respond to the questions and requests set forth in the Notice of Inquiry.

Ordering Clauses

Pursuant to the authority contained in 47 U.S.C. Sections 151, 4(i), 201, 202, 203, 204, 205, 211, 218, 303(r), 403 this Notice of Inquiry is adopted.

Federal Communications Commission.
Marlene H. Dortch,
Secretary.

[FR Doc. 04-25287 Filed 11-12-04; 8:45 am]

BILLING CODE 6712-01-P